DEPARTMENT OF LABOR

Employment and Training Administration

[TA-W-75,135]

Flowserve Corporation, Albuquerque, NM; Notice of Negative Determination on Reconsideration

On April 6, 2011, the Department of Labor (Department) issued an Affirmative Determination Regarding Application for Reconsideration for the workers and former workers of Flowserve Corporation, Albuquerque, New Mexico (subject firm). The Notice was published in the Federal Register on April 14, 2011 (76 FR 21040). Workers at the subject firm manufactured industrial pumps. The petitioner (a State of New Mexico workforce agent) alleged that the subject firm shifted production to a foreign country.

Pursuant to 29 CFR 90.18(c), reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The initial investigation resulted in a negative determination based on the findings that Section 222(a) of the Trade Act of 1974, as amended, was not met because no workers were totally or partially separated, or threatened with such separation, during the one year period before the petition date (January 21, 2011).

In request for reconsideration, the State of New Mexico workforce agent asserted that “at least 4 workers were separated during the one year period prior to the petition date” and provided four support documents (“Separation Agreement and Release” related to Louis Reynolds; “Notice to Employees” which is part of the “Separation Agreement and Release”; “Signatures” which is part of the “Separation Agreement and Release”; and “Support Documentation”) provided by Louis Reynolds.

The “Separation Agreement and Release” document established that Louis Reynolds was separated from employment with Flowserve Corporation (Flowserve) on January 25, 2010.

The “Notice to Employees” document identifies four individuals in the “Charlotte, NC facility” selected for separation and has a handwritten note that Louis Reynolds is one of the individuals.

The “Signatures” document shows that Louis Reynolds signed the “Separation Agreement and Release” on March 4, 2010.

The fourth document is a narrative by Mr. Reynolds about the closure of the Albuquerque, New Mexico facility on March 31, 2009; his reassignment to Vernon, California in October 2009; his weekly commute to and from Albuquerque, New Mexico and Vernon, California during October 2009 through January 2010; and his separation from employment with Flowserve on January 25, 2010.

During the reconsideration investigation, the Department contacted the State of New Mexico workforce agent who filed both the petition and the request for reconsideration for clarification. The Department also contacted Flowserve for clarification of previously-submitted information and additional information.

The State of New Mexico workforce agent confirmed that his intent in filing the Trade Adjustment Assistance petition and the request for reconsideration was to assist Mr. Reynolds.

Flowserve confirmed that production at the Albuquerque, New Mexico facility ceased in May 2009, that all production employees were separated in July 2009, and that all non-production employees were reassigned to the Vernon, California facility during August-September 2009. Flowserve also confirmed that by January 2010, there were no workers at the Albuquerque, New Mexico facility.

Flowserve also clarified that although Mr. Reynolds was reassigned from Albuquerque, New Mexico to Charlotte, North Carolina in June 2009, he assisted with the closure of the New Mexico facility until the end of July 2009 and worked at Vernon, California from August 2009 until he was separated from Flowserve.

The reconsideration investigation also confirmed that neither the Vernon, California facility nor the Charlotte, North Carolina facility of Flowserve employed workers who are eligible to apply for Trade Adjustment Assistance.

After a careful review of previously-submitted information and additional information obtained by the Department during the reconsideration investigation, the Department determines that there was no worker group at Flowserve Corporation, Albuquerque, New Mexico during the investigation period. Therefore, no workers were totally or partially separated from employment at Flowserve Corporation, Albuquerque, New Mexico, or threatened with such separation. Further, the Department determines that there was no mistake in fact and no misinterpretation of the facts or the law.

Conclusion

After careful consideration of the administrative record, I affirm the original notice of negative determination of eligibility to apply for worker adjustment assistance for workers and former workers of Flowserve Corporation, Albuquerque, New Mexico.

Signed in Washington, DC, on this 12th day of August, 2011.
Del Min Amy Chen,
Certifying Officer, Office of Trade Adjustment Assistance.

[FR Doc. 2011-22556 Filed 9-1-11; 8:45 am]

BILLING CODE 4510-FN-P